DEPARTMENT OF TRANSPORTATION

Coast Guard

[USCG-2002-13117]

Great Lakes Pilotage Advisory Committee; vacancy.

AGENCY: Coast Guard, DOT.

ACTION: Request for applications.

SUMMARY: The Coast Guard seeks applications for membership on the Great Lakes Pilotage Advisory Committee (GLPAC). GLPAC advises the Coast Guard on matters related to regulations and policies on the pilotage of vessels on the Great Lakes.

DATES: Application forms should reach us on or before September 19, 2002.

ADDRESSES: You may request an application form and waiver by writing to Commandant (G-MW), U.S. Coast Guard, 2100 Second Street SW., Washington, DC 20593-0001; by calling 202-267-6164; by faxing 202-267-4700; or by e-mailing Jshort@comdt.uscg.mil. Send your completed application, waiver, and short resume to the above street address or by fax to 202-267-4700. This notice and the application and waiver forms are available on the Internet at http://dms.dot.gov.

FOR FURTHER INFORMATION CONTACT: Ms. Margie Hegy, Executive Director of GLPAC, at (202) 267-0415, fax (202) 267-4700.

SUPPLEMENTARY INFORMATION: The Great Lakes Pilotage Advisory Committee (GLPAC) is a Federal advisory committee under 5 U.S.C. App. 2. It advises the Secretary of Transportation, via the Commandant of the Coast Guard, on the rules and regulations that govern the registration of pilots, the operating requirements for U.S. registered pilots, pilot training policies, and the policies and regulations that establish rates charges and conditions for pilotage services.

GLPAC meets at least twice a year at various locations in the continental United States. It may also meet for extraordinary purposes. Subcommittees or working groups may be designated to consider specific problems and will meet as required.

We will consider applications for one position that has never been filled since the GLPAC was established. The position is unique in that the member is required to have a background in finance or accounting, and the requirement for five years of practical experience in maritime operations that the other six members must meet is waived for this position. However, applicants with some knowledge of the marine industry would be desirable. Applicants who do not live or work in the Great Lakes community are specifically encouraged to apply.

All applications will be reviewed and discussed by the other six Committee members as the candidate for this position must be recommended to the Secretary of Transportation by a unanimous vote of the other members of the Committee. This discussion will occur in a public forum, however, information of a personal nature that would invade the privacy of the applicant, including his/her name, will be blacked out before the applications are made available to the public. Applicants will be asked to sign a waiver to allow discussion at a public meeting of GLPAC.

Each member serves for a term of 3 years. A few members may serve consecutive terms. All members serve without compensation from the Federal Government, although travel reimbursement and per diem will be provided.

In support of the policy of the Department of Transportation on gender and ethnic diversity, we encourage qualified women and members of minority groups to apply.

Dated: August 13, 2002.
J. P. Brusseau,
Captain, U.S. Coast Guard, Acting Assistant Commandant for Marine Safety, Security and Environmental Protection.

[FR Doc. 02-21132 Filed 8-19-02; 8:45 am]

BILLING CODE 4910-15-P